ENVIRONMENTAL PROTECTION AGENCY

40 CFR Part 62

[MO 0136-1136a; FRL-7078-8]

Approval and Promulgation of State Plans for Designated Facilities and Pollutants; Control of Emissions From Hospital/Medical/Infectious Waste Incinerators (HMIWIs); State of Missouri

AGENCY: Environmental Protection Agency (EPA).

ACTION: Direct final rule.

SUMMARY: EPA is approving a revision to the state of Missouri's section 111(d) plan for controlling emissions from existing hospital/medical/infectious waste incinerators. The state modified two definitions contained in its 111(d) plan to make them equivalent to the EPA definitions. Approval of the revised state plan will ensure that it is consistent with the Federal regulations and is Federally enforceable.

DATES: This direct final rule will be effective December 11, 2001 unless EPA receives adverse comments by November 13, 2001. If adverse comments are received, EPA will publish a timely withdrawal of the direct final rule in the Federal Register informing the public that the rule will not take effect.

ADDRESSES: Comments may be mailed to Wayne Kaiser, Environmental Protection Agency, Air Planning and Development Branch, 901 North 5th Street, Kansas City, Kansas 66101.

Copies of documents relative to this action are available for public inspection during normal business hours at the above-listed Region 7 location. The interested persons wanting to examine these documents should make an appointment with the office at least 24 hours in advance.

FOR FURTHER INFORMATION CONTACT: Wayne Kaiser at (913) 551-7603.

SUPPLEMENTARY INFORMATION: Throughout this document whenever “we,” “us,” or “our” is used, we mean EPA.

Information regarding this action is presented in the following order:

What are the regulatory requirements for HMIWIs?

Why is this action necessary?

What changes did the state make in their 111(d) plan?

What action are we taking in this document?

What Are the Regulatory Requirements for HMIWIs?

Standards and guidelines for new and existing HMIWIs were promulgated under the authority of sections 111 and 129 of the Clean Air Act on September 15, 1997 (62 FR 48374). These standards are 40 CFR part 60, subpart Ec for new sources, and 40 CFR part 60, subpart Ce for existing sources.

These rules apply to new and existing incinerators used by hospitals and health care facilities, as well as to incinerators used by commercial waste disposal companies to burn hospital waste and/or medical/infectious waste. Subpart Ce establishes an emission guideline (EG) which applies to existing HMIWIs that commenced construction on or before June 20, 1996.

The subpart Ce EG is not a direct Federal regulation but is a “guideline” for states to use in regulating existing HMIWIs. The EG requires states to submit for EPA approval a section 111(d) state plan containing air emission regulations and compliance schedules for existing HMIWIs.

Why Is This Action Necessary?

We originally approved the state's HMIWI 111(d) plan in 40 CFR part 62 on August 19, 1999 (64 FR 45187). Upon implementation of the plan, the state determined two definitions in rule 10 CSR 10-6.200, Hospital, Medical, Infectious Waste Incinerators (which is part of the 111(d) plan) were incomplete, and needed to be revised for clarification and to be consistent with the EPA definitions.

What Changes Did the State Make in Their 111(d) Plan?

Subsequently, in this rule, in subsection (2)(E), the term “co-fired combustor” was amended. The additional language addresses what is considered other waste for purposes of calculating the percentage of hospital and medical/infectious waste combusted of the total of all wastes combusted in a co-fired combustor. Other waste for purposes of the definition includes pathological, chemotherapeutic, and low-level radioactive waste. This amendment can affect applicability as companies calculate the percentage of other waste being incinerated. This definition is now consistent with the EPA definition at 40 CFR 62.14490.

In subsection (2)(T) of the same rule, the term “medical/infectious waste” was amended. The additional language helps to clarify what the term “medical/infectious waste” means by listing specific excluded wastes. These excluded wastes include such things as hazardous waste, household waste, and domestic sewage materials. This additional language can also affect applicability when calculating the percentage of waste incinerated. This definition is now consistent with the EPA definition at 40 CFR 62.14490.

What Action Are We Taking in This Document?

Since the additional language serves to clarify the meaning of the respective terms and these definitions are now equivalent to the EPA definitions, we are approving these revisions to the state's HMIWI 111(d) plan.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state plan implementing a Federal standard, and does not alter the relationship or the distribution of power and responsibilities established in the Clean Air Act. This rule also is not subject to Executive Order 13045 “Protection of Children from Environmental Health Risks and Safety Risks” (62 FR 19885, April 23, 1997), because it is not economically significant.

In reviewing state plan submissions, EPA's role is to approve state choices, provided that they meet the criteria of the Clean Air Act. In this context, in the absence of a prior existing requirement for the State to use voluntary consensus standards (VCS), EPA has no authority to disapprove a state plan submission for failure to use VCS. It would thus be inconsistent with applicable law for EPA, when it reviews a state plan submission, to use VCS in place of a state plan submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. We will submit a report containing this rule and other required information to the United States Senate, the United States House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 11, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 62

Environmental protection, Air pollution control, Hospital/medical/infectious waste incinerators, Intergovernmental relations, Reporting and recordkeeping requirements.

Dated: September 27, 2001.
William W. Rice,
Acting Regional Administrator, Region 7.

Chapter I, title 40 of the Code of Federal Regulations is amended as follows:

PART 62—[AMENDED]

1. The authority citation for part 62 continues to read as follows:

Authority: 42 U.S.C. 7401 et seq.

Subpart AA—Missouri

2. Section 62.6358 is amended by adding paragraph (d) to read as follows:

§ 62.6358 Identification of plan.

* * * * *

(d) Amended plan for the control of air emissions from Hospital/Medical/Infectious Waste Incinerators submitted by the Missouri Department of Natural Resources on July 13, 2001. The effective date of the amended plan is December 11, 2001.

[FR Doc. 01-25583 Filed 10-11-01; 8:45 am]

BILLING CODE 6560-50-P